DEPARTMENT OF ENERGY

[Docket No. 16-144-LNG]

Change In Control: Driftwood LNG LLC

AGENCY: Office of Fossil Energy and Carbon Management, Department of Energy.

ACTION: Notice of change in control.

SUMMARY: The Office of Fossil Energy and Carbon Management (FECM) of the Department of Energy (DOE) gives notice of receipt of a Statement of Change in Control (Statement) filed by Driftwood LNG LLC (Driftwood LNG) on August 16, 2024. The Statement describes an expected change in Driftwood LNG's upstream ownership. The Statement was filed under the Natural Gas Act (NGA).

DATES: Protests, motions to intervene, or notices of intervention, as applicable, and written comments are to be filed as detailed in the Public Comment Procedures section no later than 4:30 p.m., eastern time, September 25, 2024.

ADDRESSES:

Electronic Filing by email (Strongly encouraged): fergas@hq.doe.gov.

Postal Mail, Hand Delivery, or Private Delivery Services (e.g., FedEx, UPS, etc.): U.S. Department of Energy (FE-34), Office of Regulation, Analysis, and Engagement, Office of Fossil Energy and Carbon Management, Forrestal Building, Room 3E-056, 1000 Independence Avenue SW, Washington, DC 20585.

Due to potential delays in DOE's receipt and processing of mail sent through the U.S. Postal Service, we encourage respondents to submit filings electronically to ensure timely receipt.

FOR FURTHER INFORMATION CONTACT:

Jennifer Wade or Peri Ulrey, U.S. Department of Energy (FE-34), Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov

Cassandra Bernstein, U.S. Department of Energy (GC-76), Office of the Assistant General Counsel for Energy Delivery and Resilience, Forrestal Building, Room 6D-033, 1000 Independence Avenue SW, Washington, DC 20585, (240) 780-1691, cassandra.bernstein@hq.doe.gov

SUPPLEMENTARY INFORMATION:

Summary of Change in Control

Currently, Driftwood LNG is an indirect, wholly-owned subsidiary of Tellurian Inc. (Tellurian), a Delaware corporation. Driftwood LNG states that, on July 21, 2024, Tellurian announced that it had entered into a definitive agreement with subsidiaries of Woodside Energy Group Ltd (Woodside), an Australian Company, pursuant to which a Woodside subsidiary will acquire all the outstanding shares of Tellurian (Proposed Transaction). Upon satisfaction of certain conditions precedent and completion of the Proposed Transaction, Tellurian will be a direct wholly-owned subsidiary of Woodside Energy Holdings (NA) LLC, a Delaware limited liability company with its principal place of business in Houston, Texas, and an indirect wholly-owned subsidiary of Woodside.

Driftwood LNG states that the Proposed Transaction is anticipated to close in the fourth quarter of 2024. Driftwood LNG further states that, after the Proposed Transaction is consummated, it will continue to be the sole holder of the export authorizations at issue.

Charts illustrating the ownership structure of Driftwood LNG before and after the closing of the Proposed Transaction are attached to the Statement as Exhibit A. Additional details can be found in the Statement, posted on the DOE website at: https://www.energy.gov/sites/default/files/2024-08/Driftwood%20CIC%20%28Dated%208-16-24%29.pdf.

DOE Evaluation

DOE will review the Statement in accordance with its CIC Procedures.¹ Consistent with the CIC Procedures, this notice addresses Driftwood LNG's existing authorization to export liquefied natural gas (LNG) to countries with which the United States has not entered into a free trade agreement (FTA) requiring national treatment for trade in natural gas (FTA countries) and with which trade is not prohibited by United States law or policy (non-FTA countries), granted in DOE/FE Order No. 4373, as amended.² If no interested person protests the change in control and DOE takes no action on its own motion, the proposed change in control will be deemed granted 30 days after publication in the Federal Register. If one or more protests are submitted, DOE will review any motions to intervene, protests, and answers, and will issue a determination as to whether the proposed change in control has been demonstrated to render the underlying authorizations inconsistent with the public interest.

¹ 79 FR 65541 (Nov. 5, 2014).

² Driftwood LNG's Statement also applies to its existing authorization to export LNG to FTA countries in the same docket. DOE will respond to that portion of the filing separately pursuant to the CIC Procedures, 79 FR 65542.

Public Comment Procedures

Interested persons will be provided 15 days from the date of publication of this notice in the Federal Register to move to intervene, protest, and answer the Statement.³ Protests, motions to intervene, notices of intervention, and written comments are invited in response to this notice only as to the change in control described in the Statement. All protests, comments, motions to intervene, or notices of intervention must meet the requirements specified by DOE's regulations in 10 CFR part 590, including the service requirements.

³ Intervention, if granted, would constitute intervention only in the change in control portion of these proceedings, as described herein.

Filings may be submitted using one of the following methods:

(1) Submitting the filing electronically at fergas@hq.doe.gov;

(2) Mailing the filing to the Office of Regulation, Analysis, and Engagement at the address listed in the ADDRESSES section; or

(3) Hand delivering the filing to the Office of Regulation, Analysis, and Engagement at the address listed in the ADDRESSES section.

For administrative efficiency, DOE prefers filings to be filed electronically. All filings must include a reference to “Docket No. 16-144-LNG” in the title line, or “Driftwood LNG Change in Control” in the title line.

For electronic submissions: Please include all related documents and attachments (e.g., exhibits) in the original email correspondence. Please do not include any active hyperlinks or password protection in any of the documents or attachments related to the filing. All electronic filings submitted to DOE must follow these guidelines to ensure that all documents are filed in a timely manner.

The Statement, and any filed protests, motions to intervene, notices of intervention, and comments will be available electronically on the DOE website at www.energy.gov/fecm/regulation.

Signed in Washington, DC, on September 4, 2024.
Amy R. Sweeney,
Director, Office of Regulation, Analysis, and Engagement, Office of Resource Sustainability.

[FR Doc. 2024-20394 Filed 9-9-24; 8:45 am]

BILLING CODE 6450-01-P